DEPARTMENT OF THE INTERIOR

National Park Service

[2253-665]

Notice of Inventory Completion: Minnesota Indian Affairs Council, Bemidji, MN

AGENCY: National Park Service, Interior.

ACTION: Notice.

SUMMARY: The Minnesota Indian Affairs Council has completed an inventory of human remains in consultation with the appropriate Indian tribes, and has determined that there is no cultural affiliation between the remains and any present-day Indian tribe. Representatives of any Indian tribe that believes itself to be culturally affiliated with the human remains may contact the Minnesota Indian Affairs Council. Disposition of the human remains to the Indian tribes stated below may occur if no additional requestors come forward.

DATES: Representatives of any Indian tribe that believes it has a cultural affiliation with the human remains should contact the Minnesota Indian Affairs Council at the address below by February 13, 2012.

ADDRESSES: James L. (Jim) Jones, Cultural Resource Director, Minnesota Indian Affairs Council, 3801 Bemidji Avenue NW., Suite 5, Bemidji, MN 56601, telephone (218) 755-3223.

SUPPLEMENTARY INFORMATION: Notice is here given in accordance with the Native American Graves Protection and Repatriation Act (NAGPRA), 25 U.S.C. 3003, of the completion of an inventory of human remains in the possession of the Minnesota Indian Affairs Council (MIAC). The human remains were removed from the following counties: Anoka, Cass, Lincoln, Pope and Sherburne in the State of Minnesota.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Minnesota Indian Affairs Council professional staff in consultation with representatives of the Bad River Band of the Lake Superior Tribe of Chippewa Indians of the Bad River Reservation, Wisconsin; Bois Forte Band (Nett Lake) of the Minnesota Chippewa Tribe, Minnesota; Flandreau Santee Sioux Tribe of South Dakota; Fond du Lac Band of the Minnesota Chippewa Tribe, Minnesota; Grand Portage Band of the Minnesota Chippewa Tribe, Minnesota; Keweenaw Bay Indian Community, Michigan; Lac Courte Oreilles Band of Lake Superior Chippewa Indians of Wisconsin; Lac Vieux Desert Band of Lake Superior Chippewa Indians, Michigan; Leech Lake Band of the Minnesota Chippewa Tribe, Minnesota; Lower Sioux Indian Community in the State of Minnesota; Mille Lacs Band of the Minnesota Chippewa Tribe, Minnesota; Minnesota Chippewa Tribe, Minnesota; Prairie Island Indian Community in the State of Minnesota; Red Cliff Band of Lake Superior Chippewa Indians of Wisconsin; Santee Sioux Nation, Nebraska; Sisseton-Wahpeton Oyate of the Lake Traverse Reservation, South Dakota; Sokaogon Chippewa Community, Wisconsin; Spirit Lake Tribe, North Dakota; St. Croix Chippewa Indians of Wisconsin; Upper Sioux Community, Minnesota; White Earth Band of Minnesota Chippewa Tribe, Minnesota (hereinafter referred to as “The Tribes”).

History and Description of the Remains

At an unknown date, human remains representing, at minimum, one individual were removed from site 21-AN-1, Howard Lake, Anoka County, MN, by unknown person(s) and attached to a display board that was in the possession of a collector in Duluth, MN. In 2006, the human remains were transferred to the MIAC (H421). No known individual was identified. No associated funerary objects are present.

Site 21-AN-1, consisting of three large mounds, has been identified as Middle Woodland Tradition. In 1950, L.A. Wilford of the University of Minnesota excavated human remains representing 32 individuals from site 21-AN-1 (UM309). The human remains recovered in 1950 were published in the Federal Register (65 FR, 53214, August 9, 1999) and have been repatriated and reburied. The human remains from 21-AN-1 are associated with the Middle Woodland Tradition, a broad archeological classification which cannot be associated with any present-day Indian tribe.

In 1997, human remains representing, at minimum, one individual were recovered from private land in Ramsey City, Anoka County, MN, by the Ramsey City Police Department and transferred to the Anoka County Coroner's Office (97-80193) for identification. In 2000, the human remains were transferred to the Minnesota Office of the State Archeologist and then transferred to the MIAC (H376). No known individuals were identified. No associated funerary objects are present.

The condition of the remains and the degree of dental attrition suggest these human remains are ancient/pre-contact in time. Cranial morphology identifies this individual as American Indian. The human remains have no archeological classification and cannot be associated with any present-day Indian tribe.

At an unknown date, human remains representing, at minimum, eight individuals were removed from an undesignated site on the south end of Gull Lake, Cass County, MN, by unknown person(s) and transferred to D. Birk of the Minnesota Historical Society. In 1998, the human remains were transferred to the Minnesota Office of the State Archeologist and in 1999, to the MIAC (H372). No known individuals were identified. No associated funerary objects are present.

The condition of the remains identifies these human remains as pre-contact American Indian. The human remains have no archeological classification and cannot be associated with any present-day Indian tribe.

At an unknown date, human remains representing one individual were removed from mounds on the north end of Lake Benton City, Lincoln County, MN, by unknown person(s). In 2002, Mr. David Norden donated the human remains to the Lake Benton Area Historical Society. In 2004, the human remains were transferred to the MIAC (H409). No known individual was identified. No associated funerary objects are present.

The human remains are associated with the Woodland Tradition, an archeological classification which cannot be associated with any present-day Indian tribe.

At an unknown date, human remains representing, at minimum, two individuals were removed from an undesignated site in Pope County, MN, and donated to the Pope County Historical Society (Acc. 66.391 and 66.394). In 1997, the human remains were transferred to Dave Nystuen, Minnesota Historical Society who transferred the remains to the Minnesota Office of the State Archeologist. In 1999, the human remains were transferred to the MIAC (H370). No known individuals were identified. No associated funerary objects are present.

Archeological material transferred with the human remains including Onamia style ceramic sherds suggest the remains may be associated with the Woodland Tradition, a broad archeological classification which cannot be associated with any present-day Indian tribe.

In the late 1940s, human remains representing, at minimum, two individuals were recovered when a mound was leveled during construction of a parking lot at the site of the Elk Lake Tavern in (Little) Elk Lake, Sherburne County, MN, and donated to the University of Minnesota. In 1999, the human remains were transferred to the MIAC (H355). No known individuals were identified. No associated funerary objects are present.

The context of these human remains in a mound and femora morphology identify these human remains as pre-contact American Indian. The human remains are associated with the Woodland Tradition, a broad archeological classification which cannot be associated with any present-day Indian tribe.

Determinations Made by the Minnesota Indian Affairs Council

Officials of the MIAC have determined that:

• Based on non-destructive physical analysis and catalogue records, the human remains are Native American.

• Pursuant to 25 U.S.C. 3001(2), a relationship of shared group identity cannot be reasonably traced between the Native American human remains and any present-day Indian tribe.

• According to final judgments of the Indian Claims Commission, the land from which the Native American human remains were removed is the aboriginal land of The Tribes.

• Pursuant to 25 U.S.C. 3001(9), the human remains described in this notice represent the physical remains of 15 individuals of Native American ancestry.

• Pursuant to 43 CFR 10.11(c)(1), the disposition of the human remains is to The Tribes.

Additional Requestors and Disposition

Representatives of any Indian tribe that believes itself to be culturally affiliated with the human remains or any other Indian tribe that believes it satisfies the criteria in 43 CFR 10.11(c)(1) should contact James L. (Jim) Jones, Cultural Resource Director, Minnesota Indian Affairs Council, 3801 Bemidji Avenue NW., Suite 5, Bemidji, MN 56601, telephone (218) 755-3223, before February 13, 2012. Disposition of the human remains to The Tribes may proceed after that date if no additional requestors come forward.

The Minnesota Indian Affairs Council is responsible for notifying The Tribes that this notice has been published.

Dated: January 9, 2012.
Sherry Hutt,
Manager, National NAGPRA Program.

[FR Doc. 2012-522 Filed 1-12-12; 8:45 am]

BILLING CODE 4312-50-P